DEPARTMENT OF DEFENSE

Department of the Army

Notice of Availability for Exclusive, Non-Exclusive, or Partially-Exclusive Licensing of an Invention Concerning a Method and Device for Detection of Bioavailable Drug Concentration in a Fluid Sample

AGENCY: Department of the Army, DOD.

ACTION: Notice; correction.

SUMMARY: The notice published in the Federal Register on January 6, 2012 (77 FR 783) contained an incorrect U.S. Provisional Patent Application Serial No. The correct number is 61/105,604.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

Brenda S. Bowen,
Army Federal Register Liaison Officer.

[FR Doc. 2012-649 Filed 1-13-12; 8:45 am]

BILLING CODE 3710-08-P